DEPARTMENT OF JUSTICE

Antitrust Division

Notice Pursuant to the National Cooperative Research and Production Act of 1993—Consortium for Rare Earth Technologies

Notice is hereby given that, on August 2, 2022, pursuant to section 6(a) of the National Cooperative Research and Production Act of 1993, 15 U.S.C. 4301 et seq. (“the Act”), Consortium for Rare Earth Technologies (“CREaTe”) has filed written notifications simultaneously with the Attorney General and the Federal Trade Commission disclosing changes in its membership. The notifications were filed for the purpose of extending the Act's provisions limiting the recovery of antitrust plaintiffs to actual damages under specified circumstances.

Specifically, ABS, Spring, TX; Aequor, Inc., San Diego, CA; Ames Laboratory, Ames, IA; APL Engineered Materials, Inc., Urbana, IL; Battelle Memorial Institute, Columbus, OH; BD Consulting and Investigations, Inc., San Jose, CA; Booz Allen Hamilton, McLean, VA; Cambria County Association for the Blind and Handicapped, Johnstown, PA; Christopher Wnuk, Reston, VA; College of Earth and Mineral Sciences, The Pennsylvania State University, State College, PA; Colorado School of Mines, Golden, CO; Concurrent Technologies Corporation, Johnstown, PA; Cornerstone Research Group, Miamisburg, OH; EGOR R&D, Inc., Corsicana, TX; ENIF Consulting LLC, Potomac, MD; EWI, Columbus, OH; Exergy Systems, Inc., Irvine, CA; Freedom Technologies, Inc., Arlington, VA; General Atomics Electromagnetic Systems, San Diego, CA; Ginkgo Bioworks, Boston, MA; GlobalNow and VERSO, Dallas, TX; Greentech Minerals Advisory Group, Alexandria, VA; Guided Particle Systems, Inc., Pensacola, FL; ICD Alloys and Metals LLC, Winston-Salem, NC; II-VI Aerospace & Defense, Murrieta, CA; IM Technologies LLC, Shoreham, NY; J.A. Green & Company, Washington, DC; Katz Water Technologies, Houston, TX; Kearney, Dallas, TX; Lawrence Livermore National Laboratory, Livermore, CA; Leonardo DRS, Fitchburg, MA; Life Cycle Engineering, Inc., North Charleston, SC; Lynntech, Inc., College Station, TX; Materials Research LLC, Palo Alto, CA; Materion Corp., Mayfield Heights, OH; Messaginglab, Brooklyn, NY; Minerva Lithium, Greensboro, NC; Molten Salt Solutions, Santa Fe, NM; MP Materials Corp., Las Vegas, NV; NGC, Plymouth, MN; NuMat Technologies, Skokie, IL; Orbital Sidekick, Inc., San Francisco, CA; Parallax Advanced Research, Beavercreek, OH; PerkinElmer, Austin, TX; Physical Sciences, Inc., Andover, MA; Polaris Alpha Advanced Systems, Inc., Fredericksburg, VA; Polykala Technologies LLC, San Antonio, TX; Powdermet, Inc., Euclid, OH; PRD Tech, Inc., Cincinnati, OH; QuesTek Innovations, Evanston, IL; REECCycling, Inc., Boone, IA; Rensselaer Polytechnic Institute, Troy, NY; Savengy Technologies LLC, Orlando, FL; SimBlocks LLC, Orlando, FL; Skuld LLC, London, OH; Smardt Chiller Group, Inc., Plattsburgh, NY; SMI, Inc., Washington, DC; SNJ LLC, Johns Island, SC; Southern Company Services, Inc., Birmingham, AL; SRI International, Menlo Park, CA; Strategic Control Sciences, Inc., Gaithersburg, MD; ThREE Consulting, St. Louis, MO; Tusaar Corp., Westminster, CO; UNandUP, Saint Louis, MO; Universal Achemetal Titanium LLC, Butte, MT; University of North Dakota, College of Engineering and Mines, Grand Forks, ND; University of Tennessee, Knoxville, Knoxville, TN; Urban Mining Company, San Marcos, TX; VPI Technology, Draper, UT; Weinberg Medical Physics, Inc., North Bethesda, MD; Western Rare Earths, Phoenix, AZ; Wyonics, Laramie, WY; Xlight Corporation, Mendham, NJ; and XSB, Inc., Setauket, NY, have been added as parties to this venture.

No other changes have been made in either the membership or planned activity of the group research project. Membership in this group research project remains open, and CREaTe intends to file additional written notifications disclosing all changes in membership.

On April 22, 2022, CREaTe filed its original notification pursuant to section 6(a) of the Act. The Department of Justice published a notice in the Federal Register pursuant to Section 6(b) of the Act on May 13, 2022 (87 FR 29384).

Suzanne Morris,
Chief, Premerger and Division Statistics Antitrust Division.

[FR Doc. 2022-18676 Filed 8-29-22; 8:45 am]

BILLING CODE P